SMALL BUSINESS ADMINISTRATION

National Women's Business Council; Federal Register Notice of Public Meeting

AGENCY: National Women's Business Council, Small Business Administration.

ACTION: Notice of open public meeting.

DATES: The Public Meeting will be held on Thursday, October 25, 2018, from 8:30 to 10:30a.m. EST.

ADDRESSES: The meeting will be held at the Washington, DC Women's Business Center located at 740 15th Street NW, Washington, DC 20005.

FOR FURTHER INFORMATION CONTACT: The meeting is open to the public; however advance notice of attendance is requested. To RSVP and confirm attendance, the general public should email Ashley Judah at Ashley.Judah@sba.gov with subject line—“RSVP for 10/25/18 Public Meeting.”

For more information, please visit the NWBC website at www.nwbc.gov or call 202-205-6829.

SUPPLEMENTARY INFORMATION: Pursuant to section 10(a)(2) of the Federal Advisory Committee Act (5 U.S.C., Appendix 2), the National Women's Business Council (NWBC) announces its first public meeting of Fiscal Year 2019. NWBC was created in 1988 by H.R. 5050, the Women's Business Ownership Act, to serve as an independent source of advice and policy recommendations to the President, the Congress, and the Administrator to the U.S. Small Business Administration (SBA), on issues of importance to women business owners and entrepreneurs.

This meeting will celebrate the 30th anniversary of the establishment of NWBC and the SBA's Office of Women's Business Ownership. It will focus on the past 30 years of growth and accomplishments of women business owners, made possible by the passage of H.R. 5050. This meeting will also look ahead to the future of women's business enterprise. SBA Administrator Linda McMahon will be participating as a speaker.

Dated: October 2, 2018.
Nicole Nelson,
Committee Management Officer (Acting).

[FR Doc. 2018-22037 Filed 10-11-18; 8:45 am]

BILLING CODE 8025-01-P